DEPARTMENT OF THE INTERIOR

National Park Service

[NPS-WASO-NAGPRA-13490; [PPWOCRADN0-PCU00RP14.R50000]

Notice of Inventory Completion: U.S. Department of the Interior, National Park Service, Casa Grande Ruins National Monument, Coolidge, AZ

AGENCY: National Park Service, Interior.

ACTION: Notice.

SUMMARY: The U.S. Department of the Interior, National Park Service, Casa Grande Ruins National Monument has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to Casa Grande Ruins National Monument. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to Casa Grande Ruins National Monument at the address in this notice by September 16, 2013.

ADDRESSES: Karl Cordova, Superintendent, Casa Grande Ruins National Monument, 1100 W Ruins Drive, Coolidge, AZ 85128, telephone (520) 723-3172, email karl_cordova@nps.gov.

SUPPLEMENTARY INFORMATION: Notice is here given in accordance with the Native American Graves Protection and Repatriation Act (NAGPRA), 25 U.S.C. 3003, of the completion of an inventory of human remains and associated funerary objects under the control of the U.S. Department of the Interior, National Park Service, Casa Grande Ruins National Monument, Coolidge, AZ. The human remains and associated funerary objects were removed from Casa Grande Ruins National Monument, Pinal County, AZ.

This notice is published as part of the National Park Service's administrative responsibilities under NAGPRA, 25 U.S.C. 3003(d)(3). The determinations in this notice are the sole responsibility of the Superintendent, Casa Grande Ruins National Monument.

Consultation

A detailed assessment of the human remains was made by Casa Grande Ruins National Monument professional staff in consultation with representatives of the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico (hereafter referred to as “The Tribes”).

History and Description of the Remains

In 1930, human remains representing, at minimum, 16 individuals were removed from Compound F in Pinal County, AZ. The Compound F site lies within the boundaries of Casa Grande Ruins National Monument and was excavated by the Van Bergen Expedition from the Los Angeles County Museum of Natural History (LACMNH). The excavation was sponsored by Charles Van Bergen and supervised by Arthur Woodward and Irwin Hayden. In 1968, the Compound F collection was loaned to the Arizona State Museum (ASM) and in 1983, the human remains were analyzed by the Human Remains Laboratory of ASM. The collection was returned to LACMNH in 1993. In 2011, the majority of the Compound F collection, including objects not subject to NAGPRA, was transferred to the National Park Service's Western Archeological and Conservation Center in Tucson, AZ. At the request of The Tribes, the human remains and associated funerary objects remained at LACMNH. No known individuals were identified. The 39 associated funerary objects are 25 sherds, 3 ceramic vessels, 6 faunal bone fragments, 1 bag of faunal bone fragments, 1 piece of turquoise, 1 pestle, 1 bag of charcoal, and 1 unworked cone shell fragment.

In the early 1930s, human remains representing, at minimum, one individual were removed from an unspecified site within the boundaries of Casa Grande Ruins National Monument in Pinal County, AZ. In 1934, the remains and associated funerary object were donated to the Phoebe A. Hearst Museum, where they are currently housed, by LACMNH through Arthur Woodward. No known individuals were identified. The one associated funerary object is a Casa Grande Red-on-buff ceramic funerary urn.

Several excavations sponsored by LACMNH and supervised by Arthur Woodward occurred within the boundaries of Casa Grande Ruins National Monument in the early 1930s, including the Compound F site and an unnamed site in the southeast corner of the monument. Based on the totality of information, Casa Grande Ruins National Monument has determined that the remains originated from one of these two sites.

Both the Compound F site and the unnamed site in the southeast corner of the monument have been determined to be Hohokam Classic Period (A.D.1150-1450) sites. Evidence demonstrating historical and cultural ties between the people of prehistoric Hohokam Classic Period sites and the modern Four Southern Tribes still living in the region (Ak Chin Indian Community of the Maricopa (Ak Chin) Indian Reservation, Arizona; Gila River Indian Community of the Gila River Indian Reservation, Arizona; Salt River Pima-Maricopa Indian Community of the Salt River Reservation, Arizona; and Tohono O'odham Nation of Arizona) include linguistic continuity, oral tradition, settlement patterns, burial practices (cremation burials), historical records, and similarities in material culture (red-on-buff ceramics). Evidence demonstrating historical and cultural ties between the inhabitants of the prehistoric Hohokam Classic Period sites within Casa Grande Ruins National Monument and the contemporary peoples of the Hopi Tribe of Arizona and the Zuni Tribe of the Zuni Reservation, New Mexico include geography, oral history, and archeological evidence.

Determinations Made by Casa Grande Ruins National Monument

Officials of Casa Grande Ruins National Monument have determined that:

• Pursuant to 25 U.S.C. 3001(9), the human remains described in this notice represent the physical remains of 17 individuals of Native American ancestry.

• Pursuant to 25 U.S.C. 3001(3)(A), the 40 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian tribe or Native Hawaiian organization not identified in this notice that wish to request transfer of control of these human remains and associated funerary objects should submit a written request with information in support of the request to Karl Cordova, Superintendent, Casa Grande Ruins National Monument, 1100 W Ruins Drive, Coolidge, AZ 85128, telephone (520) 723-3172, email karl_cordova@nps.gov, by September 16, 2013. After that date, if no additional requestors have come forward, transfer of control of the human remains and associated funerary objects to The Tribes may proceed.

Casa Grande Ruins National Monument is responsible for notifying The Tribes that this notice has been published.

Dated: July 10, 2013.
David Tarler,
Acting Manager, National NAGPRA Program.

[FR Doc. 2013-19990 Filed 8-15-13; 8:45 am]

BILLING CODE 4312-50-P